NATIONAL FOUNDATION ON THE ARTS AND THE HUMANITIES

Meetings of Humanities Panel

AGENCY: National Endowment for the Humanities.

ACTION: Notice of meetings.

SUMMARY: The National Endowment for the Humanities will hold seventeen meetings of the Humanities Panel, a federal advisory committee, during August, 2017. The purpose of the meetings is for panel review, discussion, evaluation, and recommendation of applications for financial assistance under the National Foundation on the Arts and Humanities Act of 1965.

DATES: See SUPPLEMENTARY INFORMATION section for meeting dates. The meetings will open at 8:30 a.m. and will adjourn by 5:00 p.m. on the dates specified below.

ADDRESSES: The meetings will be held at Constitution Center at 400 7th Street SW., Washington, DC 20506, unless otherwise indicated.

FOR FURTHER INFORMATION CONTACT: Elizabeth Voyatzis, Committee Management Officer, 400 7th Street SW., Room 4060, Washington, DC 20506; (202) 606-8322; evoyatzis@neh.gov.

SUPPLEMENTARY INFORMATION: Pursuant to section 10(a)(2) of the Federal Advisory Committee Act (5 U.S.C. App.), notice is hereby given of the following meetings:

1. Date: August 1, 2017. This meeting will discuss applications on the subjects of American Literature and Studies, for the Fellowships grant program, submitted to the Division of Research Programs.

2. Date: August 1, 2017. This meeting will discuss applications on the subjects of French and Francophone Literature and Studies, for the Fellowships grant program, submitted to the Division of Research Programs.

3. Date: August 2, 2017. This meeting will discuss applications on the subject of Latin American History, for the Fellowships grant program, submitted to the Division of Research Programs.

4. Date: August 2, 2017. This meeting will discuss applications on the subjects of Political Science and Jurisprudence, for the Fellowships grant program, submitted to the Division of Research Programs.

5. Date: August 2, 2017. This meeting will discuss applications on the subjects Media Studies and Performing Arts, for Digital Humanities Advancement Grants, submitted to the Office of Digital Humanities.

6. Date: August 3, 2017. This meeting will discuss applications on the subject of Scholarly Communications, for Digital Humanities Advancement Grants, submitted to the Office of Digital Humanities.

7. Date: August 3, 2017. This meeting will discuss applications on the subjects of Anthropology and New World Archaeology, for the Fellowships grant program, submitted to the Division of Research Programs.

8. Date: August 4, 2017. This meeting will discuss applications on the subject of Religious Studies, for the Fellowships grant program, submitted to the Division of Research Programs.

9. Date: August 4, 2017. This meeting will discuss applications on the subjects of Public Programs and Education, for Digital Humanities Advancement Grants, submitted to the Office of Digital Humanities.

10. Date: August 7, 2017. This meeting will discuss applications on the subjects of the History of Science and the Social Sciences, for the Fellowships grant program, submitted to the Division of Research Programs.

11. Date: August 7, 2017. This meeting will discuss applications on the subject of Art History, for the Fellowships grant program, submitted to the Division of Research Programs.

12. Date: August 8, 2017. This meeting will discuss applications on the subjects of Medieval and Renaissance Literature and Studies, for the Fellowships grant program, submitted to the Division of Research Programs.

13. Date: August 8, 2017. This meeting will discuss applications on the subjects of Ancient and Classical Literature and Studies, and Old World Archaeology, for the Fellowships grant program, submitted to the Division of Research Programs.

14. Date: August 14, 2017. This meeting will discuss applications on the subjects of Digital Collections and Archives, for Digital Humanities Advancement Grants, submitted to the Office of Digital Humanities.

15. Date: August 14, 2017. This meeting will discuss applications on the subject of Conservation Science, for the Research and Development grant program, submitted to the Division of Preservation and Access.

16. Date: August 15, 2017. This meeting will discuss applications on the subjects of Geospatial and Visualization, for Digital Humanities Advancement Grants, submitted to the Office of Digital Humanities.

17. Date: August 17, 2017. This meeting will discuss applications on the subject of Cultural Heritage, for the Research and Development grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: July 6, 2017.
Elizabeth Voyatzis,
Committee Management Officer.

[FR Doc. 2017-14518 Filed 7-10-17; 8:45 am]

BILLING CODE 7536-01-P